DEPARTMENT OF HOMELAND SECURITY

Federal Emergency Management Agency

[Docket ID FEMA-2008-0010]

Board of Visitors for the National Fire Academy

AGENCY: Federal Emergency Management Agency, Department of Homeland Security.

ACTION: Request for applicants for appointment to the Board of Visitors for the National Fire Academy.

SUMMARY: The National Fire Academy (Academy) is requesting individuals who are interested in serving on the Board of Visitors for the National Fire Academy (Board) to apply for appointments as identified in this notice.

DATES: Resumes will be accepted until 11:59 p.m. eastern daylight time (EDT) February 18, 2025.

ADDRESSES: The preferred method of submission is via email. However, resumes may also be submitted by mail. Please choose one submission method only:

• Email: FEMA-NFABOV@fema.dhs.gov.

• Mail: National Fire Academy, U.S. Fire Administration, Attention: Debbie Gartrell-Kemp, 16825 South Seton Avenue, Emmitsburg, Maryland 21727-8998.

FOR FURTHER INFORMATION CONTACT: Designated Federal Officer: Eriks Gabliks, (301) 447-1117, Eriks.Gabliks@fema.dhs.gov.

SUPPLEMENTARY INFORMATION: Pursuant to the Federal Fire Prevention and Control Act of 1974, the Board shall review annually the programs of the Academy and shall make recommendations to the Federal Emergency Management Agency (FEMA) Administrator, through the United States Fire Administrator, regarding the operation of the Academy and any improvements that the Board deems appropriate. The Board is composed of eight members, all of whom have national or regional leadership experience in the fields of fire safety, fire prevention (such as community risk reduction to include wildland urban interface), fire control, research and development in fire protection, treatment and rehabilitation of fire victims, or local government services management, which includes emergency medical services. The Academy seeks to appoint three individuals to a position on the Board that will be open due to term expiration. If other positions are vacated during the application process, candidates may be selected from the pool of applicants to fill the vacated positions.

The Board is an advisory committee established in accordance with the provision of the Federal Advisory Committee Act (FACA), 5 U.S.C. ch.10. The purpose of the Board is to review annually the programs of the Academy and advise the FEMA Administrator on the operation of the Academy and any improvements therein that the Board deems appropriate. In carrying out its responsibilities, the Board examines Academy programs to determine whether these programs further the basic missions approved by the FEMA Administrator, examines the physical plant of the Academy to determine the adequacy of the Academy's facilities, and examines funding levels for Academy programs. The Board submits a written report through the United States Fire Administrator to the FEMA Administrator annually. The report provides detailed comments and recommendations regarding the Academy's operations.

Individuals interested in serving on the Board are invited to apply for consideration for appointment. There is no application form; however, (1) a current resume and (2) statement of interest will be required. The appointment shall be for a term of up to three years. Individuals selected for the appointment shall serve as Special Government Employees (SGEs), defined in section 202(a) of title 18, United States Code. Appointments may impact the ability to receive certain federal contracts. Candidates selected for the appointment will be required to complete a Confidential Financial Disclosure Form (U.S. Office of Government Ethics (OGE) Form 450) every year and receive yearly ethics training from the Component Ethics Office.

The Board shall meet as often as needed to fulfill its mission, but not less than twice each fiscal year to address its objectives and duties. The Board will meet in person at least once each fiscal year with additional meetings held via teleconference. Board members may be reimbursed for travel and per diem incurred in the performance of their duties as members of the Board. All travel for Board business must be approved in advance by the Designated Federal Officer. To the extent practical, Board members shall serve on any subcommittee that is established.

FEMA does not discriminate in employment on the basis of race, color, religion, sex, national origin, political affiliation, sexual orientation, gender identity, marital status, disability and genetic information, age, membership in an employee organization, or other non-merit factor. FEMA strives to achieve a diverse candidate pool for all its recruitment actions.

Current DHS employees, contractors, and potential contractors will not be considered for membership. Federally registered lobbyists will not be considered for appointments.

Eriks Gabliks,
Superintendent, National Fire Academy,United States Fire Administration,Federal Emergency Management Agency.

[FR Doc. 2025-01236 Filed 1-16-25; 8:45 am]

BILLING CODE 9111-74-P